DEPARTMENT OF TRANSPORTATION

National Highway Traffic Safety Administration

[Docket No. NHTSA-2025-0025]

Agency Information Collection Activities; Notice and Request for Comment; Investigation-Based Crash Data Studies

AGENCY: National Highway Traffic Safety Administration (NHTSA), Department of Transportation (DOT).

ACTION: Notice and request for comments on an extension with modification of a currently approved information collection.

SUMMARY: The National Highway Traffic Safety Administration (NHTSA) invites public comments about our intention to request approval from the Office of Management and Budget (OMB) for extension with modification of a currently approved information collection. Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval on NHTSA's Investigation-Based Crash Data Studies: Crash Investigation Sampling System (CISS), Special Crash Investigation (SCI) and Special Study Data Collection.

DATES: Comments must be submitted on or before June 9, 2025.

ADDRESSES: You may submit comments identified by the Docket No. NHTSA-2025-0025 through any of the following methods:

• Electronic submissions: Go to the Federal eRulemaking Portal at https://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to https://www.regulations.gov or the street address listed above. Follow the online instructions for accessing the dockets via internet.

FOR FURTHER INFORMATION CONTACT: For additional information or access to background documents, contact Dinesh Sharma, Crash Investigation Division (NSA-110), (202) 366-2333, National Highway Traffic Safety Administration, W53-493, U.S. Department of Transportation, 1200 New Jersey Avenue SE, Washington, DC 20590. Please identify the relevant collection of information by referring to its OMB Control Number.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g., permitting electronic submission of responses. In compliance with these requirements, NHTSA asks for public comments on the following proposed collection of information for which the agency is seeking approval from OMB.

Title: Investigation-Based Crash Data Studies.

OMB Control Number: 2127-0706.

Form Number(s): Form 1278, 1280, 2046, 2047, 2048, 2049, HS Form 433D.

Type of Request: Request for extension with modification of a currently approved information collection.

Type of Review Requested: Regular.

Requested Expiration Date of Approval: 3 years from date of approval.

Summary of the Collection of Information: NHTSA is authorized, under 49 U.S.C. 30182 and 23 U.S.C. 403 to collect data on motor vehicle traffic crashes to aid in the identification of issues and the development, implementation, and evaluation of motor vehicle and highway safety countermeasures. For decades, NHTSA has been investigating crashes and collecting crash data through its Investigation-Based Crash Data Studies, namely the Crash Investigation Sampling System (CISS), Special Crash Investigation (SCI), and specific issue-based Special Study data collection studies. Although each of these systems satisfy different purposes and collect data in different manners, they all utilize the same core variables (e.g., forms), procedures and protocols for data collection.

NHTSA is seeking approval to modify the existing information collection to:

1. Increase the number of data collection sites to 73;

2. Expand the type of crashes investigated to include non-motorists, motorcycles and large vehicles (over 10,000 pounds gross vehicle weight rating) for 2025 and future years.

NHTSA has also adjusted estimates to include the burden incurred by tow yards, hospitals, and law enforcement agencies in responding to the collections from the currently approved 56 to 73 data collection sites over the next three years. The Infrastructure Investment and Jobs Act requested that the Crash Investigation Sampling System (CISS) expand the number of data collection sites; include more crash types (non-motorists, motorcycles and large vehicles) and explore on-scene response. The current approval for Investigation-Based Crash Data Studies collection indicated a total annual 12,063 burden hours; this request increases the total annual burden hours to 17,521. The combined impact is an increase of 5,458 hours overall total annual burden from the currently approved information collection. The increase in burden hours and cost for these additional data collection sites are reflected in the Burden to Respondent section of this document.

The CISS is a nationally representative sample of passenger vehicle crashes which focus on detailed investigation of passenger vehicle crashes, pedestrian crashes and motor-cycle crashes. It provides nationally representative data on fatal and nonfatal motor vehicle, pedestrian and motorcycle crashes for use in developing and evaluating federal motor vehicle safety standards and other safety countermeasures. The CISS began implementation in 2015 and by 2024 was collecting crash data from forty (40) fully operational sites. In 2024 the CISS started collecting data on pedestrian crashes. The CISS will start collecting data on motorcycle crashes in 2025 and large vehicle crashes in 2026. The CISS collects data at both the crash level through scene analysis and vehicle level through vehicle damage assessment together with injury source evidence and standardized coding.

The SCI Program is used to provide NHTSA with the most in-depth and detailed level of crash investigation data collected by the Agency. Generally, SCI investigations are conducted for crashes of special interest, such as those involving new or emerging safety technologies (e.g., those involving vehicles equipped with crash avoidance technologies or Automated Driving Systems (ADS)), school buses, motorcoaches, alternative fuel and hybrid vehicles, adaptive control equipped vehicles, fires, child restraints, and those relevant to safety defect investigations. The crash investigations are conducted to document crash circumstances, identify injury sources, evaluate safety countermeasure effectiveness and support Agency rulemaking actions. Investigations are also conducted to provide early detection of alleged or potential vehicle safety defects. Reports are generated from investigations and all are made available to the public. The crashes chosen for SCI investigation may be chosen throughout the year as they arise, or be part of a planned effort to look into a particular type of crash (such as crashes involving air bag deployment-related fatalities and injuries).

In addition to the above-referenced CISS and SCI data collections, NHTSA also conducts investigation-based special studies using the CISS and SCI infrastructure to answer questions on a specific topical aspect of vehicle and highway safety. In the special study cases, data is typically gathered remotely where documents and investigation details are requested from investigating agencies and the data is compiled, coded, and reported on collectively in a summary report detailing the issue. These special studies will utilize the same infrastructure CISS and SCI, as well as the same core variables (e.g., forms) and procedures and protocols. The cases may be selected from an agency's data set (i.e., CISS, SCI, or Fatality Analysis Reporting System (FARS)) or through other means (i.e., internet searches, news articles, and public notification). The cases may or may not be selected to provide a nationally representative sample of crashes. In the past, using the National Automotive Sampling System-Crashworthiness Data System (NASS-CDS) infrastructure, NHTSA conducted several investigation-based special studies, including studies on child occupant protection, air bag effectiveness, and pedestrian safety among others. NASS-CDS, operated from 1979 through 2015, and was the predecessor to CISS. Two recently completed special studies collected information on crashes that involved medium-duty trucks (trucks between 10,001 and 26,000 lbs.), pedestrians or pedalcyclists, and one in-progress special study is on first responders or construction or maintenance workers struck while performing official duties on the road.

NHTSA will also use the information collected through the CISS infrastructure to support NHTSA's Non-Traffic Surveillance (NTS). CISS Technicians review over a hundred and fifty thousand crash reports each year, and some of these reports are not applicable to the CISS program, but they may be applicable to the NTS data collection. NTS is a virtual data collection system designed to provide counts and details regarding fatalities and injuries that occur in non-traffic crashes and in non-crash incidents. Non-traffic motor vehicle crashes are a class of crashes that occur off the public trafficways. These crashes, subsequently referred to as “non-traffic crashes,” are mostly single-vehicle crashes on private roads, two vehicle crashes in parking facilities, or collisions with pedestrians in driveways. In addition, there are non-traffic incidents such as a vehicle falling on a person underneath or an unintentional carbon monoxide poisoning inside the vehicle. Non-traffic crash data is obtained through NHTSA's CISS, SCI, Crash Reporting Sampling System (CRSS), and FARS.

For the standard investigation-based crash data studies acquisition process, once a crash has been selected for investigation, crash technicians locate, visit, measure, and photograph the crash scene; locate, visit, inspect, and photograph involved vehicle(s); conduct a telephone or personal interview with the involved individuals or a surrogate (another person who can provide occupant or crash information, such as parents for a minor or parent or spouse for a deceased individual); and obtain and record crash injury information received from various medical data sources. These data are used to describe and analyze circumstances, mechanisms, and consequences of a cross section of towed, light passenger motor vehicle crashes in the United States. The collection of interview data aids in this effort.

For the special studies, the data is typically gathered following similar procedures, but is targeted to a specific issue (e.g., child occupant protection, crash causation factors) as opposed to an entire investigation. Special Studies investigations also typically only involve obtaining information from law enforcement, who provide access to and a copy of the crash report where the data is not electronic. They do not involve interviewing people involved in crashes, obtaining medical records or inspecting the vehicles. Each special study has specific requirements (i.e., types of crashes and/or data collected); however, the gathering of crash reports for these studies is similar to the gathering of crash reports in the CISS and SCI programs.

Description of the Need for the Information and Proposed Use of the Information: NHTSA investigates real-world crashes and collects detailed crash data through CISS, SCI, and Special Studies data collection programs to identify the primary factors related to the source of crashes and their injury outcomes. These detailed factors are utilized to develop and evaluate effective safety countermeasures including the establishment and enforcement of motor vehicle regulations that reduce the severity of injury and property damage caused by motor vehicle crashes. The data collected also give motor vehicle researchers an opportunity to specify areas in which improvements may be possible, design countermeasure programs, and evaluate the effects of existing and proposed safety measures.

Burden to Respondents: NHTSA has provided a description of the affected public, estimated number of respondents, description of frequency, and estimates of the total burden hours and costs for each of the three Investigation-Based Crash Data Acquisition Systems (CISS, SCI, and Special Studies) below. In aggregate, NHTSA estimates that the total annual burden is 17,521 hours and the total annual cost of $0.

Program: CISS.

Affected Public: People involved in select motor vehicle crashes, law enforcement jurisdictions that provide access to and a copy of the crash report where the data is not electronic; hospitals that provide a copy of the injured occupant's medical treatment of injuries; and tow or salvage lot facilities that provide access to the storage facility to inspect the vehicle.

Estimated Number of Respondents: 37,175.

Frequency: On Occasion.

Estimated Total Annual Burden Hours: 17,245 hours (10,950 + 1,071 + 388 + 3,627 + 1,209).

The CISS crash data acquisition system includes 5 information collections. The first information collection covers the collection of information from individuals involved in crashes via interview. The estimated number of interview respondents is obtained by multiplying the approximate number of crashes investigated each year by the average number of interviews per crash. Based on existing data, each CISS crash involves an average of approximately 2.25 individuals. NHTSA estimates that CISS conducts investigations on 14,600 crashes per year. Therefore, NHTSA estimates that there will be 32,850 respondents per year (14,600 crashes × 2.25 respondents per crash).

The respondents are contacted only once; however, in rare circumstances follow-up questions may be needed to clarify data. The interview requires approximately 20 minutes of a respondent's time on average. CISS conducts interviews for approximately 14,600 crashes per year, which NHTSA estimates takes about 45 minutes per crash (2.25 respondents × 20 minutes). Therefore, the estimated total annual burden hours for the collection of information from individuals involved in crashes for CISS is 10,950 hours ((14,600 crashes × 45 minutes) ÷ 60 minutes/hour).

In addition to interviews, crash technicians and investigators must obtain official records to initiate and complete the cases. These records include police crash reports and medical records. The second information collection under CISS is for the collection of crash records from sampled police jurisdictions. NHTSA estimates that there are 412 sample police jurisdictions annually. To estimate the burden to sampled police jurisdictions, NHTSA multiplied the average number of visits per year by the average burden per visit and the number of police jurisdictions. On average, each of the 412 sampled police jurisdictions are queried weekly (or 52 times per year) and each query is estimated to take 3 minutes. Accordingly, NHTSA estimates the total annual burden for sampled police jurisdictions to be 2.6 hours per respondent (3 minutes × 52 visits) and 1,071 hours for all respondents (2.6 hours × 412 police jurisdictions = 1,071.2 hours).

The third information collection under CISS is for the collection of crash records from non-sampled police jurisdictions. Based on existing CISS data, there are 775 non-sampled jurisdictions annually. To estimate the burden to non-sample police jurisdictions, NHTSA multiplied the average number of visits per year by the average burden per visit and the number of non-sampled police jurisdictions. On average, each of the 775 non-sampled police jurisdictions are visited twice annually and each query is estimated to take 15 minutes. Accordingly, NHTSA estimates the total burden for non-sampled police jurisdictions to be 30 minutes per respondent (15 minutes × 2 visits) and 388 hours for all respondents ((30 minutes × 775 non-sampled police jurisdictions) ÷ 60 minutes/hour) = 388 hours).

The fourth information collection under CISS is for the collection of medical records from hospitals. Based on existing data, CISS collects an average of 21,763 records each year from an average of 628 hospitals. NHTSA estimates that a hospital spends 10 minutes for each record requested. Accordingly, NHTSA estimates the total annual burden to be 3,627 hours ((21,763 records × 10 minutes) ÷ 60 minutes/hour) and estimates that each hospital will, on average, spend 5.78 hours providing the requested information each year (3,627 hours ÷ 628 hospitals).

The fifth information collection under CISS is for the collection from tow yards necessary to gain access to and locate a vehicle that was involved in a crash. Typically, a tow facility operator just needs to give the crash technician permission to enter the yard to inspect the vehicle and involves approximately 5 minutes of staff time. CISS data shows an average of 14,508 visits to tow facilities per year, and NHTSA estimates 2,510 tow facilities will be visited annually. Accordingly, NHTSA estimates the total annual burden to be 1,209 hours ((14,508 visits × 5 minutes) ÷ 60 minutes/hour) and estimates that each tow facility will, on average, spend 28.91 minutes providing the requested information each year ((1,209 hours × 60 minutes) ÷ 2,510 facilities).

Accordingly, NHTSA estimates that the total burden associated with the CISS data acquisition system is 17,245 hours (10,950 + 1,071 + 388 + 3,627 + 1,209).

Estimated Total Annual Burden Cost: $0.

There are no capital, start-up, or annual operation and maintenance costs involved in this collection of information. The respondents would not incur any reporting costs from the information collection beyond the opportunity or labor costs associated with the burden hours. The respondents also would not incur any recordkeeping burden or recordkeeping costs from the information collection.

Program: Special Crash Investigation (SCI).

Affected Public: People involved in select motor vehicle crashes, law enforcement jurisdictions that provide access to and a copy of the crash report where the data is not electronic; hospitals that provide a copy of the injured occupant's medical treatment of injuries; and tow or salvage lot facilities that provide access to the storage facility to inspect the vehicle.

Estimated Number of Respondents: 500.

Frequency: On occasion (typically once per year).

Estimated Total Annual Burden Hours: 109 hours (67 + 17 + 17 + 8).

The SCI crash data acquisition system includes 4 information collections. The first information collection covers the collection of information from individuals involved in crashes via interview. The estimated number of interview respondents is obtained by multiplying the approximate number of crashes investigated each year by the average number of interviews per crash. Based on existing data, each SCI crash involves an average of approximately 2 individuals. NHTSA estimates that SCI conducts investigations on approximately 100 crashes per year. Therefore, NHTSA estimates that there will be 200 respondents per year (100 crashes × 2 respondents per crash).

The respondents are contacted only once; however, in rare circumstances follow-up questions may be needed to clarify data. The interview requires approximately 20 minutes of a respondent's time on average. SCI conducts interviews for approximately 100 crashes per year, which NHTSA estimates takes about 40 minutes per crash (2 respondents × 20 minutes). Therefore, the estimated total annual burden hours for the collection of information from individuals involved in crashes for SCI is approximately 67 hours ((100 crashes × 40 minutes) ÷ 60 minutes/hour = 66.67).

In addition to interviews, crash technicians and investigators must obtain official records to initiate and complete the cases. These records include police crash reports and medical records. The second information collection under SCI is for the collection of crash records from police jurisdictions. The SCI investigators contact an estimated 100 police jurisdictions once per year and require approximately 10 minutes of staff time per police jurisdiction. To estimate the burden to these police jurisdictions, NHTSA multiplied the average number of visits per year by the average burden per visit and the number of police jurisdictions. Accordingly, NHTSA estimates the total annual burden for police jurisdictions to be 10 minutes per respondent (10 minutes ×1 query per year) and 17 hours for all respondents ((10 minutes × 100 police jurisdictions) ÷ 60 minutes/hour = 16.67 hours).

The third information collection under SCI is for the collection of medical records from hospitals. Based on existing data, SCI collects an average of 100 records each year from 100 hospitals (1 request per hospital per year). NHTSA estimates that a hospital spends 10 minutes for each record requested. Accordingly, NHTSA estimates the total annual burden to be 17 hours ((100 records × 10 minutes) ÷ 60 minutes/hour = 16.67 hours) and estimates that each hospital will, on average, spend 10 minutes providing the requested information each year (10 minutes × 1 record request per year).

The fourth information collection under SCI is for the collection from tow yards necessary to gain access to and locate a vehicle that was involved in a crash. Typically, a tow facility operator just needs to give the crash technician permission to enter the yard to inspect the vehicle and involves approximately 5 minutes of staff time. SCI conducts approximately 100 visits to tow facilities per year, and NHTSA estimates that 100 tow facilities will be visited annually (1 request per facility per year). Accordingly, NHTSA estimates the total annual burden to be 8 hours ((100 visits × 5 minutes) ÷ 60 minutes/hour = 8.33 hours) and estimates that each tow facility will, on average, spend 5 minutes providing the requested information each year.

Accordingly, NHTSA estimates that the total burden associated with the SCI data acquisition system is 109 hours (67 + 17 + 17 + 8).

Estimated Total Annual Burden Cost: $0.

There are no capital, start-up, or annual operation and maintenance costs involved in this collection of information. The respondents would not incur any reporting costs from the information collection beyond the opportunity or labor costs associated with the burden hours. The respondents also would not incur any recordkeeping burden or recordkeeping costs from the information collection.

Special Studies

Affected Public: Law enforcement jurisdictions that provide access to and a copy of the crash report where the data is not electronic.

Estimated Number of Respondents: 1,000.

Frequency: On occasion (typically once per year).

Estimated Total Annual Burden Hours: 167 hours.

There is only one information collection for Special Studies in this ICR. This ICR only covers special studies involving remote-level investigations.¹ Accordingly, these remote-level investigations do not involve interviews of individuals involved in crashes, collection of medical records from hospitals, or visits to tow facilities. Instead, these special studies only involve the collection of information from police jurisdictions.

¹ If NHTSA intends to conduct a special study that is not remote, it will seek separate clearance.

NHTSA estimates that the special studies will involve, on average, 1,000 police jurisdictions each year and require approximately 10 minutes of staff time per police jurisdiction. The total annual hour burden on jurisdictions for special studies information is estimated to be 167 hours (1 visit × 10 minutes × 1,000 jurisdictions ÷ 60 minutes/hour = 166.67).

Estimated Total Annual Burden Cost: $0.

There are no capital, start-up, or annual operation and maintenance costs involved in this collection of information. The respondents would not incur any reporting costs from the information collection beyond the labor costs associated with the burden hours. The respondents also would not incur any recordkeeping burden or recordkeeping costs from the information collection.

Estimated Total Annual Burden Hours All Programs: 17,521 hours.

The total estimated annual burden hours to all respondents for this ICR is 17,521 hours. The table below provides a summary of the estimated annual burden hours.

Table 1—Summary of Burden Hour Estimates
Information collection title | Number of respondents | Number of responses (per respondent) | Burden per response (minutes) | Burden per respondent | Total annual burden (hours)
CISS: Interviews with Individuals Involved in Crashes | 32,850 | 32,850 (1) | 20 | 20 minutes | 10,950
CISS: Collection of Police Records from Sampled Jurisdictions | 412 | 21,424 (52) | 3 | 156 minutes (2.6 hours) | 1,071
CISS: Collection of Police Records from Non-Sampled Jurisdictions | 775 | 1,550 (2) | 15 | 30 minutes | 388
CISS: Collection of Medical Records | 628 | 21,763 (34.665) | 10 | 5.78 hours | 3,627
CISS: Access to Tow Yards | 2,510 | 14,508 (5.78) | 5 | 28.9 minutes | 1,209
SCI: Interviews with Individuals Involved in Crashes | 200 | 200 (1) | 20 | 20 minutes | 67
SCI: Collection of Police Records | 100 | 100 (1) | 10 | 10 minutes | 17
SCI: Collection of Medical Records | 100 | 100 (1) | 10 | 10 minutes | 17
SCI: Access to Tow Yards | 100 | 100 (1) | 5 | 5 minutes | 8
Special Studies: Collection of Police Records | 1,000 | 1,000 (1) | 10 | 10 minutes | 167
Total | 38,675 |  |  |  | 17,521

Estimated Total Annual Burden Cost All Programs: $0.

There is no capital, start-up, or annual operation and maintenance costs involved in this collection of information. The respondents would not incur any reporting costs from the information collection beyond the labor costs associated with the burden hours. The respondents also would not incur any recordkeeping burden or recordkeeping costs from the information collection.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. chapter 35, as amended; 49 CFR 1.49; and DOT Order 1351.29.

Chou-Lin Chen,
Associate Administrator, National Center for Statistics and Analysis.

[FR Doc. 2025-06118 Filed 4-9-25; 8:45 am]

BILLING CODE 4910-59-P